DEPARTMENT OF JUSTICE

Antitrust Division

Notice Pursuant to the National Cooperative Research and Production Act of 1993—Countering Weapons of Mass Destruction

Notice is hereby given that, on January 5, 2022, pursuant to Section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, 4D Tech Solutions, Inc., Fairmont, WV; Cape Henry Associates, Inc., Virginia Beach, VA; Droneshield LLC, Warrenton, VA; Gold Standard Radiation Detection, Inc., Albuquerque, NM; Kinsa, Inc., San Francisco, CA; Kuprion, Inc., San Jose, CA; Next Tier Concepts, Inc., Vienna, VA; NTELX, Inc., Asheville, NC; Paratek Pharmaceuticals, Boston, MA; Philips North America LLC, Cambridge, MA; Rose Developments, Inc., Virginia Beach, VA; Sherpa 6, Inc., Littleton, CO; Software AG Government Solutions, Inc., Herndon, VA; Spark Insights LLC, Tampa, FL; The University of Illinois, Urbana, IL; and XCMR, Inc., Penn Valley, PA have been added as parties to this venture.

Also, Alion Science and Technology Corporation, Burr Ridge, IL; CDO Technologies, Inc., Dayton, MD; Life Safety Systems, Inc., Santa Cruz, CA; Practical Energetics Research, Inc., Huntsville, AL; QRC LLC dba QRC Technologies, Fredericksburg, VA; SitScape, Inc., Vienna, VA; Terminal Horizon Operations and Resourcing (THOR), St. Petersburg, FL; Veterans Corps of America (VCA), O'Fallon, IL; and WWT Asynchrony Labs, St. Louis, MO have withdrawn as parties to this venture.

No other changes have been made in either the membership or planned activity of the group research project. Membership in this group research project remains open, and CWMD intends to file additional written notifications disclosing all changes in membership.

On January 31, 2018, CWMD filed its original notification pursuant to Section 6(a) of the Act. The Department of Justice published a notice in the Federal Register pursuant to Section 6(b) of the Act on March 12, 2018 (83 FR 10750).

The last notification was filed with the Department on October 28, 2021. A notice was published in the Federal Register pursuant to Section 6(b) of the Act on November 24, 2021 (86 FR 67084).

Suzanne Morris,
Chief, Premerger and Division Statistics, Antitrust Division.

[FR Doc. 2022-05106 Filed 3-9-22; 8:45 am]

BILLING CODE P